DEPARTMENT OF LABOR

Employment and Training Administration

[TA-W-52,777]

Steelcase, Inc., Grand Rapids, Michigan; Amended Notice of Revised Determination on Reconsideration Regarding Eligibility To Apply for Worker Adjustment Assistance and Alternative Trade Adjustment Assistance

In accordance with section 223 of the Trade Act of 1974 (19 U.S.C. 2273) the Department of Labor issued a Notice of Revised Determination on Reconsideration Regarding Eligibility to Apply for Worker Adjustment Assistance and Alternative Trade Adjustment Assistance on December 11, 2003, applicable to workers of Steelcase, Inc., Grand Rapids, Michigan. The notice was published in the Federal Register on January 7, 2004 (69 FR 943-944).

At the request of a state representative, the Department reviewed the certification for workers of the subject firm. New information shows that leased workers of RCM Technologies were employed at Steelcase, Inc. at the Grand Rapids, Michigan location of the subject firm.

Based on these findings, the Department is amending this certification to include leased workers of RCM Technologies working at Steelcase, Inc., Grand Rapids, Michigan.

The intent of the Department's certification is to include all workers employed at Steelcase, Inc., Grand Rapids, Michigan who were adversely affected by increased imports.

The amended notice applicable to TA-W-52,777 is hereby issued as follows:

All workers of Steelcase, Inc., Grand Rapids, Michigan, including leased workers of RCM Technologies, working at Steelcase, Inc., Grand Rapids, Michigan, who became totally or partially separated from employment on or after August 12, 2002, through December 11, 2005, are eligible to apply for adjustment assistance under section 223 of the Trade Act of 1974, and are also eligible to apply for alternative trade adjustment assistance under section 246 of the Trade Act of 1974.

Signed in Washington, DC this 30th day of March, 2004.
Elliott S. Kushner,
Certifying Officer, Division of Trade Adjustment Assistance.

[FR Doc. E4-865 Filed 4-15-04; 8:45 am]

BILLING CODE 4510-13-P